DEPARTMENT OF HOMELAND SECURITY

Coast Guard

33 CFR Part 100

[Docket No. USCG-2017-0143]

Safety Zone; Atlantic Ocean, Atlantic City, NJ

AGENCY: Coast Guard, DHS.

ACTION: Notice of enforcement of regulation.

SUMMARY: The Coast Guard will enforce the Thunder Over the Boardwalk Air show special local regulation from 11 a.m. through 3:30 p.m. on August 22-23, 2017. This action is necessary to ensure safety of life on the navigable waters of the United States immediately prior to, during, and immediately after this air show. During the enforcement period, and in accordance with the special local regulations, no vessel or person may enter, transit through, anchor in, or remain within the regulated area unless authorized by Captain of the Port Delaware Bay or a designated representative.

DATES: The regulations in 33 CFR 100.501 will be enforced from 11 a.m. to 3:30 p.m. on August 22-23, 2017, for item (a.)8 listed in the table to § 100.501.

FOR FURTHER INFORMATION CONTACT: If you have questions about this notice of enforcement, you may call or email MST1 Thomas Simkins, Sector Delaware Bay Waterways Management Division, U.S. Coast Guard; telephone 215-271-4889, email Tom.J.Simkins@uscg.mil.

SUPPLEMENTARY INFORMATION: From 11 a.m. to 3:30 p.m. on August 22-23, 2017, the Coast Guard will enforce the special local regulations at 33 CFR 100.501, table to § 100.501 (a.)8 for the regulated area located in the North Atlantic Ocean near Atlantic City, NJ. This action is necessary to ensure safety of life on U.S. navigable waterways during this air show.

Coast Guard regulations for recurring marine events within Captain of the Port Delaware Bay Zone, appear in § 100.501, Special Local Regulations; Marine Events in the Fifth Coast Guard District, which specifies the location of the regulated area for this regulated area as all waters of the North Atlantic Ocean, adjacent to Atlantic City, New Jersey, bounded by a line drawn between the following points: From a point along the shoreline at latitude 39°21′31″ N., longitude 074°25′04″ W., thence southeasterly to latitude 39°21′08″ N., longitude 074°24′48″ W., thence southwesterly to latitude 39°20′16″ N., longitude 074°27′17″ W., thence northwesterly to a point along the shoreline at latitude 39°20′44″ N., longitude 074°27′31″ W., thence northeasterly along the shoreline to latitude 39°21′31″ N., longitude 074°25′04″ W.

As specified in § 100.501, during the enforcement period, no vessel or person may enter, transit through, anchor in, or remain within the regulated area unless authorized by the Captain of the Port Delaware Bay or a designated representative. If permission is granted, all persons and vessels shall comply with the instructions of the COTP, designated representative or Patrol Commander.

This notice of enforcement is issued under authority of 33 CFR 100.501 and 33 U.S.C. 1233. The Coast Guard will provide the maritime community with advanced notice of enforcement of regulation by Broadcast Notice to Mariners (BNM), Local Notice to Mariners and on-scene notice by designated representative. In the event Captain of the Port Delaware Bay determines that it's not necessary to enforce the regulated area for the entire duration of the enforcement period, a BNM will be issued to authorize general permission to enter the regulated area.

Dated: March 20, 2017.
Benjamin A. Cooper,
Captain, U.S. Coast Guard, Captain of the Port Delaware Bay.

[FR Doc. 2017-06447 Filed 3-31-17; 8:45 am]

BILLING CODE 9110-04-P